FEDERAL COMMUNICATIONS COMMISSION

Public Information Collections Approved by Office of Management and Budget

September 8, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0848.

Expiration Date: 03/31/2001.

Title: Deployment of Wireline Services Offering Advanced Telecommunications Capability, CC Docket No. 98-147.

Form No.: N/A.

Respondents: Business or other for-profit.

Estimated Annual Burden: 1700 respondents; 95.76 hours per response (avg.).; 162,800 total annual burden hours.

Estimated Annual Reporting and Recordkeeping Cost Burden: $0.

Frequency of Response: On occasion; Third Party Disclosure.

Description: In the Advanced Services First Report and Order, issued in CC Docket 98-147, the Commission adopted measures to facilitate the development of competition in the advanced services market. These measures include strengthened collocation rules adopted pursuant to section 251(c)(6) of the Communications Act of 1934, as amended which imposes a statutory duty on incumbent local exchange carriers to provide collocation to requesting telecommunications carriers. Recently in an Order on Reconsideration issued in this proceeding, the Commission further strengthens its collocation rules. The following collections of information are necessary to implement Section 251 and to Congress's goal of promoting innovation and investment by all participating in the telecommunications marketplace, in order to stimulate competition for all services, including advanced services. In furtherance of this goal, the Commission imposes certain collections of information on incumbent local exchange carriers (LECs), seeking to deploy advanced services in order to assist incumbent LECs in protecting network integrity.

a. Processing of Collocation Applications. Where neither the state nor the parties to an interconnection agreement set a different deadline, an incumbent LEC must tell the requesting telecommunications carrier whether a collocation application has been accepted or denied within ten calendar days after receiving the application. If the incumbent LEC deems that application unacceptable, it must advise the competitive LEC of any deficiencies within this ten calendar day period. The incumbent LEC must provide sufficient detail so that the requesting carrier has a reasonable opportunity to cure each deficiency. The competitive LEC must cure any deficiencies in its collocation application and resubmit the application within 10 calendar days after being advised of them. The requesting carrier must inform the ILEC that physical collocation should proceed within seven calendar days after receiving the ILEC's price quotation. This is a new requirement adopted in the attached Order on Reconsideration. See 47 CFR 51.323(l). (Number of respondents: 1400; hours per response: 40 hours; total annual burden: 56,000 hours).

b. Amendment of Collocation Agreements, Collocation Tariffs, and Collocation-Related Provisions in Statements of Generally Available Terms. An incumbent LEC must offer to provide all forms of physical collocation (i.e., caged, cageless, shared, and adjacent) in accordance with the Commission's application processing and provisioning interval requirements, except to the extent a state sets its own application processing and collocation interval deadlines. To make an offer to provide physical collocation, an incumbent LEC must propose in response to a request from a competitive LEC an interconnection agreement or an amendment to an interconnection agreement including all necessary rates, terms, and conditions. The incumbent LEC also must file with the state commission proposed amendments to any tariff or statement of generally available terms and conditions that does not comply with the national standards for processing collocation applications and provisioning collocation arrangements. These amendments must provide for application processing intervals and physical collocation intervals no longer than the national standards except to the extent a state sets its own standard. See Order on Reconsideration, paragraph 36). (Number of respondents: 1400; hours per response: 44 hours; total annual burden: 61,600 hours).

c. State Commission Approval. If collocation becomes available in a previously exhausted ILEC structure, the ILEC must obtain the state commission's express approval before requiring a competitive LEC to move, or prohibiting a competitive lLEC from moving, a collocation arrangement into that structure, unless the ILEC and the collocation have an interconnection agreement that expressly provides for a different outcome. (See Order on Reconsideration, paragraph 46). Safe-time work practices that the incumbent may waive to keep from competitively disadvantaging its or an affiliates operations or that prevents a collocation, from restoring service in the event of an outage are inherently suspect and must receive explicit state commission approval. (See Order on Reconsideration, paragraph 60). (Number of respondents: 1400; hours per response: 2 hours; total annual burden: 2800 hours).

d. Showing Regarding Loop Condition. Incumbent LECs who refuse a competitive carrier's request to condition a loop must make an affirmative showing to the relevant state commission that conditioning the specific loop in question will significantly degrade voiceband services. The incumbent LEC must also show that there is no adjacent or alternative loop available that can be conditioned or to which the customer's service can be moved to enable line sharing. See 47 CFR 51.319(h)(5). (Number of respondents: 1400; hours per response: 2 hours; total annual burden: 2800 hours).

e. Request for Alternative Physical Access. Incumbent LECs must provide requesting carriers with access to the loop facility for testing, maintenance, and repair. At a minimum, incumbent must provide requesting carriers with loop access either through a cross-connection to the competitor's collocation space, or through a standard interface. An incumbent seeking to utilize an alternative physical access methodology may request approval to do so from the relevant state commission, but must show that the proposed alternative method is reasonable, nondiscriminatory, and will not disadvantage a requesting carrier's ability to perform loop or service testing, maintenance or repair. See 47 CFR 51.319(h)(7). (Number of respondents: 1400; hours per response: .50 hours; total annual burden: 700 hours).

f. Showing of Significant Degradation. An incumbent LEC may not deny a carrier's request to deploy a technology that is presumed acceptable for deployment unless the incumbent LEC demonstrates to the relevant state commission that deployment of the particular technology will significantly degrade the performance of other advanced services or traditional voiceband services. Where a carrier seeks to establish that deployment of a technology falls within the presumption of acceptability under 47 CFR 51.230(a)(3), the burden is on the requesting carrier to demonstrate to the state commission that its proposed deployment meets the threshold for a presumption of acceptability and will not, in fact, significantly degrade the performance of other advanced services or traditional voice band services. Upon a successful demonstration by the requesting carrier before a particular state commission, the deployed technology shall be presumed acceptable for deployment in other areas. See 47 CFR 51.230(b) and (c). (Number of respondents: 1400; hours per response: 2 hours; total annual burden: 2800 hours).

g. Information on Type of Technology. A requesting carrier that seeks access to a loop or a high frequency portion of a loop to provide advanced services must provide to the incumbent LEC information on the type of technology that the requesting carrier seeks to deploy. Where the requesting carrier asserts that the technology it seeks to deploy fits within a generic power spectral density mask, it also must provide Spectrum Class information for the technology. Where a requesting carrier relies on a calculation-based approach to support deployment of a particular technology, it must provide the incumbent LEC with information on the speed and power at which the signal will be transmitted. The requesting carrier also must provide the information required above when notifying the incumbent LEC of any propose change in advanced services technology that the carrier uses on the loop. See 47 CFR 51.231(b)-(c). (Number of respondents: 1400; hours per response: 1.5 hours; total annual burden: 2100 hours).

h. Petition. Any party seeking designation of a technology as a known disturber should file a petition for declaratory ruling. See 47 CFR 51.232(b). (Number of respondents: 100; hours per response: 1 hour; total annual burden; 100 hours).

i. Showing of Network Harm. Where a deployed advanced service is significantly degrading other services and the degradation remains unresolved by the deploying carrier(s) after a reasonable opportunity to correct the problem, the carrier whose services are being degraded must establish before the relevant state commission that a particular technology deployment is causing the significant degradation. Any claims of network harm presented to the deploying carrier(s) or, if subsequently necessary, the relevant state commission, must be supported with specific and verifiable information. See 47 CFR Section 51.233 (b) and (c). (Number of respondents: 100; hours per response: 2 hours; total annual burden: 200 hours).

j. List of Equipment, Affidavit—Whenever an incumbent LEC objects to collocation of equipment by a requesting telecommunications carrier for the purposes within the scope of section 251(c)(6) of the Act, the incumbent LEC shall prove to the state commission that the equipment is eligible for collocation. An incumbent LEC that denies collocation of a competitor's equipment, citing safety standards, must provide to the competitive LEC within five business days a list of all equipment that the incumbent LEC locates within the premises in question, together with an affidavit attesting that all of that equipment meets or exceeds the safety standard that the incumbent LEC contends the competitor's equipment fails to meet. In the Order on Reconsideration, the Commission required that this affidavit set forth in detail: the exact safety requirement that the requesting carrier's equipment does not satisfy; the incumbent LEC's basis for concluding that the requesting carrier's equipment does not meet this safety requirement; and the incumbent LEC's basis for concluding why collocation of equipment not meeting this safety requirement would compromise network safety. See 47 CFR 51.323(b). This requirement has been modified. (Number of respondents: 1400; hours per response: 2 hours; total annual burden 2800 hours).

k. Space Limitation Documentation—An incumbent LEC shall submit to the state commission, subject to any protective order as the state commission may deem necessary, detailed floor plans or diagrams of any premises where the incumbent LEC claims that physical collocation is not practical because of space limitations. An incumbent LEC that contends space for physical collocation is not available in an incumbent LEC premises must also allow the requesting carrier to tour the entire premises in question, not just the room in which space was denied, without charge, within ten days of the receipt of the incumbent LEC's denial of space. The Commission amended the rule in the First Report and Order to require that ILECs allow CLECs to tour their facility. However, no new or modified paperwork requirements were made. In the Order on Reconsideration, the Commission required that each incumbent LEC provide the state commission with all information necessary for the state commission to evaluate the reasonableness of the incumbent LEC's and its affiliates' reservations of space for future growth. This information shall include any information the state commission may require to implement its specific space reservation policies, including which space, if any, the incumbent or any of its affiliates have reserved for future use. The incumbent shall also provide the state commission with a detailed description of the specific future uses for which the space has been reserved. An incumbent LEC shall permit any requesting telecommunications carrier to inspect any floor plans or diagrams that the incumbent LEC provides a state commission, subject to any nondisclosure protections the state commission deems appropriate. See 47 CFR Section 51.321(f). See also paragraph 57 in attached Order on Reconsideration. This requirement has been modified. (Number of respondents: 100; hours per response: 26 hours; total annual burden: 26,000 hours).

l. Report of Available Collocation Space—Upon request, an incumbent LEC must submit to the requesting carrier within ten days of the submission of the request a report indicating the incumbent LEC's available collocation space in a particular LEC premises. This report must specify the amount of collocation space available at each requested premises, the number of collocators, and any modifications in the use of the space since the last report. The incumbent LEC must maintain a publicly available document, posted for viewing on the Internet, indicating all premises that are full, and must update such a document within ten days of the date at which a premises runs out of physical collocation space. See 47 CFR Section 51.321(h). In the Order on Reconsideration, the Commission makes clear that the ILEC must provide this report within ten calendar days, as opposed to ten business days. (See Order on Reconsideration, paragraph 64, page 32). (Number of respondents: 1400; hours per respondent: 1 hour; total annual burden: 1400 hours).

m. Information on Security Training—An incumbent LEC must provide information to competitive LECs on the specific type of security training a competitive LEC's employees must complete in order for the incumbent LEC to maintain reasonable security measures for its equipment and networks. See 47 CFR Section 51.323(i)(3). (Number of respondents: 1400; total annual burden: .50 hour; total annual burden: 700 hours).

n. Access to Spectrum Management Procedures and Policies—An incumbent LEC must provide competitive LECs with nondiscriminatory access to the incumbent LEC's spectrum management procedures and policies. See 47 CFR Section 51.231(a). (Number of respondents: 1400; hours per response: .50 hour; total annual burden: 700 hours).

o. Rejection and Loop Information—An incumbent LEC must disclose to requesting carrier information with respect to the rejection of the requesting carrier's provision of advanced services, together with the specific reason for the rejection. An incumbent LEC must also disclose to requesting carriers information with respect to the number of loops using advanced services technology within the binder and type of technology deployed on those loops. See 47 CFR 51.231(a). (Number of respondents: 1400; hours per response: 1 hour; total annual burden: 1400 hours).

p. Notification of Performance Degradation—If a carrier claims a service is significantly degrading the performance of other advanced services or traditional voice band services, then that carrier must notify the causing carrier and allow that carrier a reasonable opportunity to correct the problem. Any claims of network harm must be supported with specific and verifiable supporting information. See 47 CFR 51.233. (Number of respondents: 1400; hours per response: .50 hour; total annual burden: 700 hours). All of the collections will be used by the Commission and by competitive carriers to facilitate the deployment of advanced data services and to implement section 706 of the Communications Act of 1934, as amended. Obligation to respond: Mandatory.

OMB Control No.: 3060-0806.

Expiration Date: 9/30/2003.

Title: Universal Service—Schools and Libraries Universal Service Program.

Form No.: FCC Forms 470 and 471.

Respondents: Not-for-profit institutions; State, Local or Tribal Government; business or other for-profit.

Estimated Annual Burden: 60,000 respondents; 7.33 hours per response (avg.).; 440,000 total annual burden hours.

Estimated Annual Reporting and Recordkeeping Cost Burden: $0.

Frequency of Response: On occasion; Third Party Disclosure; Recordkeeping.

Description: The Commission adopted rules providing support for all telecommunications services, Internet access, and internal connections for all eligible schools and libraries. To participate in the program, schools and libraries must submit a description of the services desired to the Administrator via FCC Form 470. FCC Form 471 is submitted by schools and libraries that have ordered telecommunications services, Internet access, and internal connections. The information is used to determine eligibility. Obligation to respond: Required to obtain or retain benefits.

OMB Control No.: 3060-0384.

Expiration Date: 09/30/2003.

Title: Section 64.904, Independent Audits.

Form No.: N/A.

Respondents: Business or other for-profit.

Estimated Annual Burden: 14 respondents; 250 hours per response (avg.).; 3500 total annual burden hours.

Estimated Annual Reporting and Recordkeeping Cost Burden: $1,200,000.

Frequency of Response: On occasion.

Description: Local exchange carriers and dominant interexchange carriers are required to submit an auditor's attestation biennially demonstrating the application of the Commission's cost allocation standards to their particular operations. The independent audit requirement is imposed to ensure that the carriers are properly implementing their cost allocation manual. The independent audits serve as an important aid in the Commission's monitoring program. Obligation to respond: Required to obtain or retain benefits.

OMB Control No.: 3060-0725.

Expiration Date: 08/31/2003.

Title: Annual Filing of Nondiscrimination Reports (On Quality of Service, Installation and Maintenance by Bell Operating Companies).

Form No.: N/A.

Respondents: Business or other for-profit.

Estimated Annual Burden: 7 respondents; 50 hours per response (avg.).; 350 total annual burden hours.

Estimated Annual Reporting and Recordkeeping Cost Burden: $0.

Frequency of Response: On occasion.

Description: Bell Operating Companies (BOCs) are required to provide nondiscrimination reports on an annual basis. Without provision of these reports, the Commission would be unable to ascertain whether the BOCs were discriminating in favor of their own payphones. The report allows the Commission to determine how the BOCs will provide competing payphone providers with equal access to all the basic underlying network services that are provided to its own payphones. Obligation to respond: Mandatory.

OMB Control No.: 3060-0726.

Expiration Date: 08/31/2003.

Title: Quarterly Report of Interexchange Carriers Listing the Number of Dial-Around Calls for Which Compensation is Being Paid to Payphone Owners.

Form No.: N/A.

Respondents: Business or other for-profit.

Estimated Annual Burden: 1100 respondents; .50 hours per response (avg.); 550 total annual burden hours.

Estimated Annual Reporting and Recordkeeping Cost Burden: $0.

Frequency of Response: Third Party Disclosure.

Description: Pursuant to the mandate in Section 276(b)(1)(A) to “establish a per call compensation plan to ensure that all payphone service providers are fairly compensated for each and every completed intrastate and interstate call”, interexchange carriers (IXCs) who are responsible for paying per-call compensation to payphone providers are required to provide to payphone providers a quarterly report listing the dial-around calls made from each payphone provider's payphones. Without provision of this report, payphone providers would be unable to ascertain the compensation amount to be paid by the IXCs. The report allows each payphone provider to determine how many dial-around calls to the IXC generating the report were originated by each of the payphone provider's payphones. Obligation to respond: Mandatory.

OMB Control No.: 3060-0817.

Expiration Date: 08/31/2003.

Title: Computer III Further Remand Procedures: BOC Provision of Enhanced Services (ONA Requirements), CC Docket No. 95-20.

Form No.: N/A.

Respondents: Business or other for-profit.

Estimated Annual Burden: 10 respondents; 27 hours per response (avg.); 270 total annual burden hours.

Estimated Annual Reporting and Recordkeeping Cost Burden: $0.

Frequency of Response: On occasion; Semi-annually; Third Party Disclosure.

Description: Bell Operating Companies (BOCs) are required to post their Comparably Efficient Interconnection (CEI) plans and amendments on their publicly accessible Internet sites. The requirement extends to CEI plans for new or modified telemessaging or alarm monitoring services and for new or amended payphone services. If the BOC receives a good faith request for a plan for someone who does not have internet access, the BOC must notify that person where a paper copy of the plan is available for public inspection. The CEI plan will be used to ensure that BOCs comply with Commission policies and regulations safeguarding against potential anticompetitive behavior by the BOCs in the provision of information services. Obligation to respond: Mandatory. Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-23804 Filed 9-14-00; 8:45 am]

BILLING CODE 6712-01-U